DEPARTMENT OF LABOR

Employment and Training Administration

Solicitation for Grant Applications (SGA); Young Offender Initiative: Reentry Grant Program; Demonstration Grant Program

AGENCY: Employment and Training Administration (ETA), Labor.

ACTION: Notice of extension of closing date.

SUMMARY: The Employment and Training Administration is extending the closing date of the availability to fund demonstration grants to provide services aimed at youth who are or have been under criminal justice supervision or involved in gangs.

FOR FURTHER INFORMATION CONTACT: B. Jai Johnson, Grants Management Specialist, Division of Federal Assistance, Fax (202) 693-2879.

Date Extension

In the Federal Register at 66 FR 30754 (June 7, 2001) column changes the “Dates” caption to read:

DATES: “The closing date for receipt of the application is Tuesday, October 23, 2001 at 4:00 p.m. (Eastern Time) at the address listed.”

Signed at Washington, DC., this 19th day of September, 2001.
Laura Cesario,
Grant Officer.

[FR Doc. 01-23968 Filed 9-24-01; 8:45 am]

BILLING CODE 4510-30-M